DEPARTMENT OF COMMERCE

International Trade Administration

[A-570-848]

Freshwater Crawfish Tail Meat From the People's Republic of China: Extension of Time Limit for Final Results of New Shipper Review

AGENCY: Import Administration, International Trade Administration, U.S. Department of Commerce.

SUMMARY: The Department of Commerce is extending the time limit for the final results of the new shipper review of the antidumping duty order on freshwater crawfish tail meat from the People's Republic of China until no later than July 23, 2004. The period of review is September 1, 2002 through February 28, 2003. This extension is made pursuant to section 751(a)(2)(B)(iv) of the Tariff Act of 1930, as amended (the Act).

EFFECTIVE DATE: May 26, 2004.

FOR FURTHER INFORMATION CONTACT: Thomas Gilgunn or Addilyn Chams-Eddine, AD/CVD Enforcement Office 7, Import Administration, International Trade Administration, U.S. Department of Commerce, 14th Street and Constitution Avenue, NW., Washington, DC 20230; telephone: (202) 482-4236 or (202) 482-0648, respectively.

SUPPLEMENTARY INFORMATION:

Statutory Time Limits

Section 751(a)(2)(B)(iv) of the Act requires the Department to issue the final results of a new shipper review within 90 days after the date on which the preliminary results were issued. However, if the Department determines the issues are extraordinarily complicated, section 751(a)(2)(B)(iv) of the Act allows the Department to extend the deadline for the final results to up to 150 days after the date on which the preliminary results were issued.

Background

On March 31, 2003, the Department received a timely request for a new shipper review under the antidumping duty order on freshwater crawfish tail meat from the People's Republic of China in accordance with § 751(a)(2)(B) of the Act and § 351.214(c) of the Department's regulations from Shanghai Ocean Flavor International Trading Co., Ltd. (Shanghai Ocean Flavor). On April 30, 2003, the Department initiated this new shipper review for the period September 1, 2002 through February 28, 2003. See Freshwater Crawfish Tail Meat From the People's Republic of China: Initiation of Antidumping Duty New Shipper Review, 68 FR 23962 (May 6, 2003).

On September 15, 2003, the Department extended the preliminary results of this new shipper review by 120 days until February 24, 2004. See Freshwater Crawfish Tail Meat From the People's Republic of China: Extension of Time Limit of Preliminary Results of New Shipper Review, 68 FR 53960 (September 15, 2003).

On February 24, 2004, the Department issued the preliminary results of this review. See Notice of the Preliminary Results of Antidumping Duty New Shipper Review: Freshwater Crawfish Tail Meat From the People's Republic of China, 69 FR 9800 (March 2, 2004). On April 5, 2004, the petitioners and respondent each submitted a case brief for the Department's consideration prior to the final determination in this new shipper review. On April 12, 2004, petitioners and respondent submitted a rebuttal brief to the Department. On April 26, 2004, the Department sent a supplemental questionnaire to the respondent. On May 3, 2004, respondent submitted its response to the Department's supplemental questionnaire. At the request of petitioners, the Department held a hearing on May 5, 2004. A portion of the hearing was conducted in closed session in accordance with § 351.310(f) of the Department's regulations.

Extension of Time Limit for Final Results

Pursuant to section 751(a)(2)(B)(iv) of the Act, the Department may extend the deadline for completion of the final results of a new shipper review if it determines that the case is extraordinarily complicated. The Department has determined that this case is extraordinarily complicated because of the issues that must be addressed regarding the bona fides of the new shipper sales. Therefore, the final results of this new shipper review cannot be completed within the statutory time limit of 90 days. Because the Department issued an additional supplemental questionnaire on April 26, 2004, and the response to this supplemental questionnaire was filed on May 3, 2004, there is new information relating to the bona fides of the new shipper sales. Thus, the Department must analyze the information submitted by Shanghai Ocean Flavor in its supplemental questionnaire response and any comments or additional factual information which the petitioners may submit. Additionally, the Department may find it necessary to request further information regarding the bona fides from the respondent in this new shipper review. Therefore, in accordance with § 751(a)(2)(B)(iv) of the Act and § 351.214(i)(2) of the regulations, the Department is extending the time limit for the completion of final results to 150 days from the date on which the preliminary results were issued. The final results will now be due no later than July 23, 2004.

This notice is published pursuant to sections 751(a)(2)(B) and 777(i)(1) of the Act.

Dated: May 20, 2004.
Joseph A. Spetrini,
Deputy Assistant Secretary for Import Administration, Group III.

[FR Doc. 04-11917 Filed 5-25-04; 8:45 am]

BILLING CODE 3510-DS-P